DEPARTMENT OF ENERGY

FEDERAL ENERGY REGULATORY COMMISSION

[Docket Nos. EC02-90-000 and ER02-2233-000]

Ameren Services Company et al.; Notice of Filing and Request for Expedited Schedule

July 5, 2002.

In the matter of: Ameren Services Company, FirstEnergy Corp., Northern Indiana Public Service Company, National Grid USA, Midwest Independent System Operator, Inc.

Take notice that on July 3, 2002, pursuant to Section 203 of the Federal Power Act (FPA), Ameren Services Company (Ameren), acting as agent for its electric utility affiliates Union Electric Company d/b/a AmerenUE and Central Illinois Public Service Company d/b/a/ AmerenCIPS; FirstEnergy Corp. (FirstEnergy), on behalf of its subsidiary American Transmission Systems, Inc.; Northern Indiana Public Service Company (NIPSCO); National Grid USA (National Grid); and the Midwest Independent System Operator, Inc. (Midwest ISO), tendered for filing a Participation Agreement and a pro forma Appendix I Agreement concerning the operation of GridAmerica LLC (GridAmerica) within the Midwest ISO.

The Participation Agreement obligates the parties, upon receipt of Commission approval and satisfaction of other conditions precedent, to form GridAmerica and to sign the Appendix I Agreement with no material modifications. The Appendix I Agreement will govern the relationship between GridAmerica and the Midwest ISO. Pursuant to the Appendix I Agreement, Ameren, FirstEnergy, and NIPSCO are seeking authorization, under Section 203 of the FPA, to transfer functional control of their transmission facilities to GridAmerica. In turn, GridAmerica will cede certain functions, set forth in Schedule 5 (Delineation Functions) to the Appendix I Agreement. The Delineation of Functions is fully consistent with the Commission's policy concerning functions that may be performed by an independent transmission company and those which must be performed by a non-profit regional transmission organization. The Appendix I Agreement also addresses rates and revenue allocation in accordance with recent Commission pronouncements. Specifically, in the Appendix I Agreement, the Midwest ISO agrees to support the recovery of lost revenues by Ameren, FirstEnergy, and NIPSCO due to the elimination of rate pancaking. The parties also expect that integration of GridAmerica into the Midwest ISO will not increase the Midwest ISO's Schedule 10 rate adder. In order to permit the parties to complete the development of the GridAmerica systems, and to integrate those systems into the Midwest ISO systems in time to permit the commencement of operations during the fourth quarter of 2002, the parties seek an expedited time schedule.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Comment Date: July 15, 2002.

Magalie R. Salas,
Secretary.

[FR Doc. 02-17435 Filed 7-10-02; 8:45 am]

BILLING CODE 6717-01-P